DEPARTMENT OF THE TREASURY

Submission for OMB Review; Comment Request

November 25, 2005.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

Dates: Written comments should be received on or before January 3, 2006 to be assured of consideration.

Internal Revenue Service (IRS)

OMB Number: 1545-0499.

Type of Review: Extension.

Title: Simplified Employee Pension-Individual Retirement Account Contribution Agreement.

Form: IRS form 5305-SEP.

Description: This form is used by an employer to make an agreement to provide benefits to all employees under a Simplified Employee Pension (SEP) described in section 408(k). This form is not to be filed with the IRS but to be retained in the employer's records as proof of establishing a SEP and justifying a deduction for contributions to the SEP. The data issued to verify the deductions.

Respondents: Business or other for-profit.

Estimated Total Burden Hours: 495,000 hours.

OMB Number: 1545-1231.

Type of Review: Extension.

Title: IA 38-39 Final Regulations (T.D. 8382) Penalty on Income Tax Return Preparers who understate Taxpayer's Liability on a Federal Income Tax return or a claim for refund.

Description: These regulations set forth rules under section 6694 of the Internal Revenue Code regarding the penalty for understatement of a taxpayer's liability on a Federal income tax return or claim for refund. In certain circumstances, the preparer may avoid the penalty by disclosing on a Form 8275 or by advising the taxpayer or another preparer that disclosure is necessary.

Respondents: Business or other for-profit, Individual or households.

Estimated Total Burden Hours: 50,000 hours.

OMB Number: 1545-1514.

Type of Review: Extension.

Title: REG-209040-88(NPRM) Qualified Electing Fund Elections.

Description: These regulations permit certain shareholders to make a special section 1295 election with respect to certain preferred shares of a PFIC. Taxpayers must indicate the election on a Form 8621 and attach a statement containing certain information and representations. Form 8621 must be filed annually. The shareholders also must obtain, and retain a copy of a statement from the corporation as to its status as a PFIC.

Respondents: Business or other for-profit, Individual or households.

Estimated Total Burden Hours: 600 hours.

OMB Number: 1545-1660.

Type of Review: Extension.

Title: Notice 99-43 Nonrecognition Exchanges under Section 898.

Description: Notice 99-43 announces a modification of the current rules under Temporary Regulation section 1.897-6T(a)(1) regarding transfers, exchanges and other dispositions of U.S. real property interests in nonrecognition transactions occurring after June 18, 1980. The new rule will be included in regulation finalizing the temporary regulations.

Respondents: Business or other for-profit, Individual or households.

Estimated Total Burden Hours: 200 hours.

OMB Number: 1545-1687.

Type of Review: Extension.

Title: REG-110311-98 (Final) Corporate Tax Shelter Registration.

Description: The regulations finalize the rules relating to the filing of certain taxpayers of a disclosure statement with their Federal Tax returns under IRC section 6111(a), the rules relating the registration of confidential corporate tax shelters under 6011(d), and the rules relating to the list maintenance requirements under section 6112.

Respondents: Business or other for-profit.

Estimated Total Burden Hours: 1 hour.

OMB Number: 1545-1953.

Type of Review: Extension.

Title: Notice 2005-XX Guidance Regarding Appraisal and Report Requirements for Noncash Charitable Contributions.

Form: IRS form 8283.

Description: The notice provides guidance under new section 170(f) (11) regarding substantiation and reporting requirements for charitable contributions.

Respondents: Business or other for-profit, Individual or households and Not-for-profit institutions.

Estimated Total Burden Hours: 15,629 hours.

Clearance Officer: Glenn P. Kirkland, (202) 622-3428, Internal Revenue Service, Room 6516, 1111 Constitution Avenue, NW., Washington, DC 20224.

OMB Reviewer: Alexander T. Hunt, (202) 395-7316, Office of Management and Budget, Room 10235, New Executive Office Building, Washington, DC 20503.

Michael A. Robinson,
Treasury PRA Clearance Officer.

[FR Doc. E5-6746 Filed 12-1-05; 8:45 am]

BILLING CODE 4830-01-P